DEPARTMENT OF AGRICULTURE

U.S. Codex Office

Codex Alimentarius Commission: Meeting of the Ad hoc Codex Intergovernmental Task Force on Antimicrobial Resistance

AGENCY: U.S. Codex Office, USDA.

ACTION: Notice of public meeting and request for comments.

SUMMARY: The U.S Codex Office is sponsoring a public meeting on September 9, 2021. The objective of the public meeting is to provide information and receive public comments on agenda items and draft United States (U.S.) positions to be discussed at the 8th Session of the Ad hoc Codex Intergovernmental Task Force on Antimicrobial Resistance (TFAMR) of the Codex Alimentarius Commission, which will convene virtually, October 4-9, 2021 with the report adoption on October 13, 2021. The U.S. Manager for Codex Alimentarius and the Acting Deputy Under Secretary for Trade and Foreign Agricultural Affairs recognize the importance of providing interested parties the opportunity to obtain background information on the 8th Session of the TFAMR and to address items on the agenda.

DATES: The public meeting is scheduled for September 9, 2021, from 10:00 a.m. -12:00 p.m. EDT.

ADDRESSES: The public meeting will take place via Video Teleconference only. Documents related to the 8th Session of the TFAMR will be accessible via the internet at the following address: http://www.fao.org/fao-who-codexalimentarius/meetings/detail/en/?meeting=TFAMR&session=8.

Dr. Donald A. Prater, U.S. Delegate to the 8th Session of the TFAMR, invites U.S. interested parties to submit their comments electronically to the following email address: donald.prater@fda.hhs.gov.

Registration: Attendees must register to attend the public meeting here: https://www.zoomgov.com/meeting/register/vJIscOqsqTIrG4XB3KA9PuFQT5y28NJF068 by September 2, 2021. Early registration is encouraged.

FOR FURTHER INFORMATION CONTACT: 8th Session of the TFAMR, contact U.S. Delegate, Dr. Donald A. Prater, donald.prater@fda.hhs.gov, +1 (301) 348-3007.For Further Information about the public meeting Contact: U.S. Codex Office, 1400 Independence Avenue SW, Room 4861, South Agriculture Building, Washington, DC 20250. Phone (202) 720-7760, Fax: (202) 720-3157, Email: uscodex@usda.gov

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The Terms of Reference of the Ad hoc Codex Intergovernmental Task Force on Antimicrobial Resistance (TFAMR) are:

(i) To review and revise, as appropriate, the Code of Practice to Minimize and Contain Antimicrobial Resistance (CXC 61-2005) to address the entire food chain, in line with the mandate of Codex.

(ii) To consider the development of Guidance on Integrated Surveillance of Antimicrobial Resistance, taking into account the guidance developed by the WHO Advisory Group on Integrated Surveillance of Antimicrobial Resistance (AGISAR) and relevant OIE documents.

The TFAMR is hosted by the Republic of Korea. The United States attends the TFAMR as a member country of Codex.

Issues to be Discussed at the Public Meeting: The following items on the Agenda for the 8th Session of the TFAMR will be discussed during the public meeting:

• Proposed draft revision to the Code of Practice to Minimize and Contain Foodborne Antimicrobial Resistance (COP)(CXC 61-2005); and

• Proposed draft Guidelines on Integrated Monitoring and Surveillance of Foodborne Antimicrobial Resistance (GLIS).

Public Meeting: At the September 9, 2021, public meeting, draft U.S. positions on the agenda items will be described and discussed, and attendees will have the opportunity to pose questions and offer comments. Written comments may be offered at the meeting or sent to Dr. Donald A. Prater, U.S. Delegate for the 8th Session of the TFAMR (see ADDRESSES). Written comments should state that they relate to activities of the 8th Session of the TFAMR.

Additional Public Notification: Public awareness of all segments of rulemaking and policy development is important. Consequently, the U.S. Codex Office will announce this Federal Register publication on-line through the USDA web page located at: http://www.usda.gov/ codex, a link that also offers an email subscription service providing access to information related to Codex. Customers can add or delete their subscriptions themselves and have the option to password protect their accounts.

USDA Non-Discrimination Statement: No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How to File a Complaint of Discrimination: To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on July 27, 2021.
Mary Lowe,
U.S. Manager for Codex Alimentarius.

[FR Doc. 2021-16378 Filed 7-30-21; 8:45 am]

BILLING CODE P